OFFICE OF PERSONNEL MANAGEMENT

[OMB Control No. 3206-0269]

Revision of Information Collection: Combined Federal Campaign Applications

AGENCY: U.S. Office of Personnel Management.

ACTION: 30-Day notice.

SUMMARY: In accordance with the Paperwork Reduction Act of 1995, this notice announces that the Office of Personnel Management requests approval by the Office of Management and Budget (OMB) to renew a previously approved information collection, Combined Federal Campaign (CFC) Charity Applications, OMB Control No. 3206-0269, OPM Forms 1647-A, -B, and -E. OPM uses these documents to review the eligibility of national, international, and local charitable organizations and Department of Defense morale, welfare, and recreation (MWR)/Family Support and Youth Activities/Programs (FSYA/FSYP) organizations that wish to participate in the CFC. The proposed revisions reflect improvements in the form instructions and the addition of optional fields for charities to detail the kinds of volunteer opportunities Federal employees might consider for personal service hours (outside working hours).

On August 11, 2022, OPM published a 60-day notice and request for comments at 87 FR 49619. OPM received no comments. There are, therefore, no recommended revisions to this ICR. We estimate 6,000 responses to this information collection annually. Each form takes approximately two hours to complete. The annual estimated burden is 12,000 hours.

DATES: Comments will be accepted until December 29, 2022. This process is conducted in accordance with 5 CFR 1320.1.

ADDRESSES: Interested persons are invited to submit comments, identified by docket number and title, by the following method:

• Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this ICR, with applicable supporting documentation, may be obtained by contacting the U.S. Office of Personnel Management, Office of Combined Federal Campaign, 1900 E Street NW, Washington, DC 20415, Attention: Vanessa Bell; or sent via electronic mail to cfc@opm.gov; or by phone at 202-936-3406.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including using appropriate automated, electronic, mechanical, or other technological collection techniques or other forms of information technology, e.g., permitting electronic submissions of responses.

The Combined Federal Campaign (CFC) is the world's largest and most successful annual workplace philanthropic giving campaign, with 36 CFC Zones throughout the country and overseas raising millions of dollars each year. The mission of the CFC is to promote and support philanthropy through a program that is employee focused, cost-efficient, and effective in providing all federal employees the opportunity to improve the quality of life for all. The CFC charity applications collect information from about 6,000 national, international, and local charities for inclusion on the CFC charity list. There are no recommended revisions to this ICR.

U.S. Office of Personnel Management.
Kellie Cosgrove Riley,
Executive Director, Office of Executive Secretariat and Privacy and Information Management.

[FR Doc. 2022-25970 Filed 11-28-22; 8:45 am]

BILLING CODE 6325-46-P